DEPARTMENT OF COMMERCE

Foreign-Trade Zones Board

[Docket 25-2007]

Foreign-Trade Zone 44 - Mount Olive, New Jersey, Application for Expansion of FTZ 44 and Expansion of Scope of Manufacturing Authority

An application has been submitted to the Foreign-Trade Zones Board (the Board) by the New Jersey Commerce, Economic Growth & Tourism Commission, grantee of FTZ 44, requesting authority to expand FTZ 44 and to expand the scope of manufacturing authority for Givaudan Fragrances Corporation (Givaudan) within FTZ 44, in the Mt. Olive, New Jersey area, adjacent to the Newark/New York CBP port of entry. The application was submitted pursuant to the provisions of the Foreign-Trade Zones Act, as amended (19 U.S.C. 81a-81u), and the regulations of the Board (15 CFR Part 400). It was formally filed on July 20, 2007.

FTZ 44 was approved on October 18, 1978 (Board Order No. 139, 43 FR 50234, 10/27/78) and expanded on May 29, 2001 (Board Order 1168, 66 FR 31611, 6/12/01). The zone project currently consists of the following sites: Site 1 (80 acres) - located within the 650-acre International Trade Center, 300 Waterloo Road in the Township of Mt. Olive (Morris County) (includes the Givaudan facility-228,000 sq. ft., of which 42,007 sq. ft. are approved on a temporary basis until April 1, 2009 (A(27f)-17-2007)); and, Site 2 (309 acres, 2 parcels) - within the Rockefeller Cranbury Industrial Park, located at Half Acre Road in Cranbury Township (Middlesex County).

The applicant is requesting authority to clarify the existing boundaries of Site 1, expand Site 1 to include additional acreage, delete two acres from Site 2, and to include four additional sites in the Mt. Olive, New Jersey, area: Site 1: clarify existing FTZ boundaries (80.03 acres) and expand the site to include an additional 0.5 acres in Mt. Olive which will include a 42,007 sq. ft. warehouse building on a permanent basis (new total acreage - 80.53 acres); Site 2: delete two acres due to changed circumstances (new total acreage - 307 acres); Proposed Site 3 (177 acres) - Central Crossings Business Park, located on Bordertown-Hedding Road, Township of Bordertown (Burlington County); Proposed Site 4 (57 acres) - Old York Office Park, located on Old York Road, Township of Bordertown (Burlington County); Proposed Site 5 (40 acres) - Rockefeller Group Foreign Trade Zone Meadowlands, located on County Road, Jersey City (Hudson County); and, Proposed Site 6 (275 acres) - Norfolk Southern Rail Yard, off of County Road in Jersey City and Secaucus (Hudson County).

The applicant is also requesting an expansion of the scope of manufacturing authority for Givaudan located in Site 1. Givaudan's original manufacturing authority under zone procedures within FTZ 44 was granted for the manufacture of flavors and fragrances, which are used in cosmetics, perfumes and household products. Givaudan is now requesting authority to utilize a broader range of 6-digit input classifications for finished product classification 3302.90 (fragrance compounds). Materials sourced from abroad account for approximately seventy-five percent of all materials used in production. These are as follows: cereal groats and pellets, natural gums and resins, fish-liver oils, olive oil, sunflower-seed oil and other oils, other fixed vegetable fats and oils including linseed oil, corn oil, and sesame oil, extracts and other essences of coffee, tea or mate, undenatured ethyl alcohol, residues of starch manufacture and similar residues, petroleum oils, carboxylic acids, carboxyimide-function compounds, nitrogen function compounds, dextrins and other modified starches, wood tar, industrial monocarboxylic fatty acids, polymers of propylene, and polyacetals. The duy rates for these inputs and their final products range from duty-free to ten percent.

Zone procedures would exempt Givaudan from customs duty payments on foreign materials used in production for export. On domestic shipments, the company would be able to defer customs duty payments on foreign materials, and to choose the duty rate that applies to the finished products instead of the rates otherwise applicable to the foreign input materials. The application indicates that the savings from zone procedures would help improve the plant's international competitiveness. Approximately ten percent of production is exported.

In accordance with the Board's regulations, a member of the FTZ Staff has been designated examiner to investigate the application and report to the Board.

Public comment on the application is invited from interested parties. Submissions (original and 3 copies) shall be addressed to the Board's Executive Secretary at the address below. The closing period for their receipt is October 1, 2007. Rebuttal comments in response to material submitted during the foregoing period may be submitted during the subsequent 15-day period (to October 15, 2007).

A copy of the application and accompanying exhibits will be available for public inspection at each of the following locations: the Office of the New Jersey Commerce, Economic Growth & Tourism Commission, 20 West State Street, Trenton, NJ 08625-0820; and, the Office of the Executive Secretary, Foreign-Trade Zones Board, Room 2111, U.S. Department of Commerce, 1401 Constitution Avenue, NW., Washington, DC 20230.

For further information, contact Kathleen Boyce at 202-482-1346 or Kathleen_Boyce@ita.doc.gov.

Dated: July 23, 2007.
Andrew McGilvray,
Executive Secretary.

[FR Doc. E7-14790 Filed 7-30-07; 8:45 am]

BILLING CODE 3510-DS-S